DEPARTMENT OF HOMELAND SECURITY

Federal Emergency Management Agency

Agency Information Collection Activities: Proposed Collection; Comment Request

AGENCY: Federal Emergency Management Agency, Emergency Preparedness and Response Directorate, U.S. Department of Homeland Security.

ACTION: Notice and request for comments.

SUMMARY: The Federal Emergency Management Agency, as part of its continuing effort to reduce paperwork and respondent burden, invites the general public and other Federal agencies to take this opportunity to comment on proposed revised information collection. In accordance with the Paperwork Reduction Act of 1995 (44 U.S.C. 3506(c)(2)(A)), this notice seeks comments concerning eligibility into The Executive Fire Officer Program for senior level Firefighting Officers or individuals who are responsible for a major functional area within a fire service organization.

SUPPLEMENTARY INFORMATION: Public Law 93-498, Fire Prevention and Control Act of 1974, as amended (the Act), created the National Fire Academy (NFA) to advance the professional development of fire service personnel and allied professionals. The Act provides the conduct of courses and programs of training and education, to train fire services personnel with skills and knowledge that may be useful to advance their ability to prevent and control fires, including tactics and command of firefighting for fire chiefs, commanders, and administration and management of fire services.

Collection of Information

Title: National Fire Academy Executive Fire Officer Program Application Form.

Type of Information Collection: Revision.

OMB Number: 1660-0021.

Form Numbers: FEMA Forms 95-22, Application for Admission, 75-5, General Admissions Application and 75-5 automated.

Abstract: The United States Fire Administration, National Fire Academy has an Executive Fire Officer Program to which senior level fire officers (such as Fire Department Chiefs, Assistant Chiefs, or individuals who are responsible for a major functional area within a fire service organization) may apply. Applicants must complete FEMA Form 95-22, National Fire Academy—Executive Fire Officer Program Application for Admission in conjunction with FEMA Form 75-5, General Admissions Application (which is already under OMB approval number 1660-0007). In addition, the following information should also be submitted:

• A letter from the applicant requesting admission to the program and specifying the applicant's qualifications; commitment to complete the entire program, including the applied research; and the applicant's perceived expectation(s) of the program.

• A resume.

• A letter of recommendation and support from the applicant's immediate supervisor indicating the organization's commitment to allow the applicant to complete the required courses and research.

• A photocopy of the applicant's terminal academic diploma or transcript.

• An organizational chart that depicts the applicant's position.

FEMA uses the application forms and supporting documentation to effectively screen and select applicants for the program.

Affected Public: Individuals or Households.

Estimated Total Annual Burden Hours:

FEMA forms | No. of respondents (A) | Frequency of response (B) | Hours per response (C) | Annual burden hours (A × B × C)
75-5 | 100 | 1 | ¹ 9 | 15
75-5 automated | 200 | 1 | ¹ 10 | 33
95-22 | 300 | 1 | ² 1 | 300
Gathering additional items | 300 | 1 | ² 1 | 300
Total |  |  |  | 648
¹ Minutes.
² Hours.

Estimated Cost: There are no startup or operational/maintenance costs to respondents since there is no reporting or record keeping requirements associated with this information collection. The only cost to respondents is the one incurred as a direct result of the burden hours.

Comments: Written comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses. Comments should be received within 60 days of the date of this notice.

ADDRESSES: Interested persons should submit written comments to Muriel B. Anderson, Chief, Records Management Section, Information Resources Management Branch, Information Technology Services Division, Federal Emergency Management Agency, Emergency Preparedness and Response Directorate, Department of Homeland Security, 500 C Street, SW., Room 316, Washington, DC 20472.

FOR FURTHER INFORMATION CONTACT: Contact Charles Burkell, Training Specialist, at (301) 447-1072 for additional information. You may contact Ms. Anderson for copies of the proposed collection of information at facsimile number (202) 646-3347 or email address: FEMA-Information-Collections@dhs.gov.

Dated: August 13, 2004.
Deborah Moradi,
Acting Branch Chief, Information Resources Management Branch, Information Technology Services Division.

[FR Doc. 04-19204 Filed 8-20-04; 8:45 am]

BILLING CODE 9110-17-P